DEPARTMENT OF TRANSPORTATION

Office of the Secretary

Notice of Applications for Certificates of Public Convenience and Necessity and Foreign Air Carrier Permits Filed Under Subpart B (Formerly Subpart Q) During the Week Ending April 18, 2008

The following Applications for Certificates of Public Convenience and Necessity and Foreign Air Carrier Permits were filed under Subpart B (formerly Subpart Q) of the Department of Transportation's Procedural Regulations (See 14 CFR 301.201 et seq.). The due date for Answers, Conforming Applications, or Motions to Modify Scope are set forth below for each application. Following the Answer period DOT may process the application by expedited procedures. Such procedures may consist of the adoption of a show-cause order, a tentative order, or in appropriate cases a final order without further proceedings.

Docket Number: DOT-OST-1999-6345.

Date Filed: April 14, 2008.

Due Date for Answers, Conforming Applications, or Motion to Modify Scope: May 5, 2008.

Description: Application of United Parcel Service Co. (“UPS”) requesting renewal of its certificate authorizing UPS to engage in the scheduled foreign air transportation of property and mail between Miami, Florida and Los Angeles, California; via intermediate points in Colombia, Ecuador, and Panama; and the coterminal points Manaus, Brasilia, Rio de Janeiro, Sao Paulo, Recife, Porto Alegre, Belem, Belo Horizonte, and Salvador, Brazil.

Docket Number: DOT-OST-2008-0140.

Date Filed: April 16, 2008.

Due Date for Answers, Conforming Applications, or Motion to Modify Scope: May 7, 2008.

Description: Application of Qantas Airways Limited (“Qantas”) requesting an amendment of its foreign air carrier permit in order to engage in scheduled foreign air transportation of persons, property and mail between the United States and Australia to the full extent authorized by the new Air Transport Services Agreement between the United States and Australia, to which the United States and Australia reached a referendum agreement on February 14, 2008. Qantas also requests an exemption to the extent necessary to enable it to provide the service authorized by the new Agreement pending issuance of its amended foreign air carrier permit. Qantas seeks permit and interim exemption authority to engage in: (i) Foreign scheduled and charter air transportation of persons, property and mail from points behind Australia via Australia and intermediate points to a point or points in the United States and beyond; (ii) foreign scheduled and charter transportation of property between any point or points in the United States and any other point or points; (iii) other charters pursuant to prior approval.

Docket Number: DOT-OST-2008-0142.

Date Filed: April 18, 2008.

Due Date for Answers, Conforming Applications, or Motion to Modify Scope: May 9, 2008.

Description: Application of Air Jamaica Limited (“Air Jamaica”) requesting an amended foreign air carrier permit authorizing it to engage in (i) scheduled foreign air transportation of persons, property and mail from points behind Jamaica via Jamaica and intermediate points to a point or points in the United States and beyond; (ii) charter foreign air transportation of persons, property and mail between any point or points in Jamaica and any point or points in the United States; (iii) charter foreign air transportation of persons, property and mail between any point or points in the United States and any point or points in a third country or countries, provided that, except with respect to cargo charters, such service constitutes part of a continuous operation, with or without a change of aircraft, that includes service to Jamaica for the purpose of carrying local traffic between Jamaica and the United States; (iv) other charters pursuant to the prior approval requirement; and (v) transportation authorized by any additional route rights made available to Jamaican carriers in the future, provided that Air Jamaica has furnished the Department with evidence that it holds a homeland license for that new service before its commencement.

Docket Number: DOT-OST-2008-0144.

Date Filed: April 18, 2008.

Due Date for Answers, Conforming Applications, or Motion to Modify Scope: May 9, 2008.

Description: Application of Futura Gael requesting issuance of a foreign air carrier permit to the full extent authorized by the Air Transport Agreement between the United States and the European Community and the Member States of the European Community to enable it to engage in: (i) Foreign scheduled and charter air transportation of persons, property and mail from any point or points behind any Member State of the European Union via any point or points in any Member State and via intermediate points to any point or points in the United States and beyond; (ii) foreign scheduled and charter air transportation of persons, property and mail between any point or points in the United States and any point or points in any member of the European Common Aviation Area; (iii) foreign scheduled and charter cargo air transportation between any point or points in the United States and any other point or points; (iv) other charters pursuant to the prior approval requirements; and (v) transportation authorized by any additional route rights made available to European Community carriers in the future. Futura Gael also requests a corresponding exemption to the extent necessary to enable it to provide the services described above pending issuance of its foreign air carrier permit and such additional or other relief.

Docket Number: DOT-OST-2008-0147.

Date Filed: April 18, 2008.

Due Date for Answers, Conforming Applications, or Motion to Modify Scope: May 9, 2008.

Description: Application of Futura International Airway, S.A. (“Futura”) requesting issuance of a foreign air carrier permit to the full extent authorized by the Air Transport Agreement between the United States and the European Community and the Member States of the European Community to enable it to engage in: (i) Foreign scheduled and charter air transportation of persons, property and mail from any point or points behind any Member State of the European Union via any point or points in any Member State and via intermediate points to any point or points in the United States and beyond; (ii) foreign scheduled and charter air transportation of persons, property and mail between any point or points in the United States and any point or points in any member of the European Common Aviation Area; (iii) foreign scheduled and charter cargo air transportation between any point or points in the United States and any other point or points; (iv) other charters pursuant to the prior approval requirements; and (v) transportation authorized by any additional route rights made available to European Community carriers in the future. Futura also requests a corresponding exemption to the extent necessary to enable it to provide the services described above pending issuance of its foreign air carrier permit and such additional or other relief.

Renee V. Wright,
Program Manager, Docket Operations, Federal Register Liaison.

[FR Doc. E8-13984 Filed 6-19-08; 8:45 am]

BILLING CODE 4910-9X-P